DEPARTMENT OF TRANSPORTATION

Surface Transportation Board

[STB Ex Parte No. 670]

Establishment of a Rail Energy Transportation Advisory Committee

AGENCY: Surface Transportation Board.

ACTION: Notice of establishment of Federal Advisory Committee.

SUMMARY: As required by section 9(a)(2) of the Federal Advisory Committee Act (FACA), 5 U.S.C. App., the Surface Transportation Board (Board), hereby gives notice that, following consultation with the General Services Administration, the Board is creating a Rail Energy Transportation Advisory Committee (RETAC). RETAC will provide advice and guidance to the Board, and serve as a forum for discussion of emerging issues, regarding the transportation by rail of energy resources, particularly, but not necessarily limited to, coal, ethanol and other biofuels. The Board is also requesting suggestions for candidates for membership on RETAC.

DATES: Suggestions of candidates for membership on RETAC are due August 9, 2007.

ADDRESSES: Suggestions may be submitted either via the Board's e-filing format or in the traditional paper format. Any person using e-filing should attach a document and otherwise comply with the instructions at the E-FILING link on the Board's Web site, at: http://www.stb.dot.gov. Any person submitting a filing in the traditional paper format should send an original and 10 copies to: Surface Transportation Board, Attn: STB Ex Parte No. 670, 395 E Street, SW., Washington, DC 20423-0001.

FOR FURTHER INFORMATION, CONTACT: Scott M. Zimmerman at 202-245-0202. [Assistance for the hearing impaired is available through the Federal Information Relay Service (FIRS) at 1-800-877-8339.]

SUPPLEMENTARY INFORMATION: The Board, created by Congress in 1996 to take over many of the functions previously performed by the Interstate Commerce Commission, exercises broad authority over transportation by rail carriers, including regulation of railroad rates and service (49 U.S.C. 10701-10747, 11101-11124), as well as the construction, acquisition, operation, and abandonment of rail lines (49 U.S.C. 10901-10907) and railroad line sales, consolidations, mergers, and common control arrangements (49 U.S.C. 10902, 11323-11327).

The Board views the reliability of the nation's energy supply as crucial to this nation's economic and national security, and the transportation by rail of coal and other energy resources as a vital link in the energy supply chain. The Board is establishing RETAC as an advisory committee consisting of a balanced cross-section of energy and rail industry stakeholders to provide independent, candid policy advice to the Board and to foster open, effective communication among the affected interests on issues such as rail performance, capacity constraints, infrastructure planning and development, and effective coordination among suppliers, carriers, and users of energy resources. RETAC shall function solely as an advisory body, and will comply with the provisions of FACA and its implementing regulations.

On March 9, 2007, the Board issued a decision announcing its proposal to establish a rail energy transportation advisory committee and soliciting public comment on the advisability of establishing such a committee, the size and composition of the committee, and the scope of its mandate. In response, comments were received from more than two dozen parties, including rail carriers, energy producers, trade associations, and others. Based on its review of those comments and consultation with the General Services Administration, the Board has decided to establish RETAC and has developed a charter to govern its operation.

RETAC will be balanced and representative of interested and affected parties, and will consist of not less than: 5 representatives from the Class I railroads, 3 representatives from Class II and III railroads, 3 representatives from coal producers, 5 representatives from electric utilities (including at least one rural electric cooperative and one state-or municipally-owned utility), 4 representatives from biofuel refiners, processors, or distributors, or biofuel feedstock growers or providers, and 2 representatives from private car owners, car lessors, or car manufacturers. RETAC may also include up to 3 members with relevant experience but not necessarily affiliated with one of the aforementioned industries or sectors. The Chairman of the Board may invite representatives from the U.S. Departments of Agriculture, Energy and Transportation and the Federal Energy Regulatory Commission to serve on RETAC in advisory capacities as ex officio (non-voting) members, and the three members of the Board shall serve as ex officio members of the Committee as well.

RETAC will meet at least two times per year; the Board anticipates that RETAC will meet in the fall of 2007. No honoraria, salaries, travel or per diem are available to members of the RETAC; however, reimbursement for travel expenses may be sought from the Board in cases of hardship.

Chairman Nottingham has appointed Scott M. Zimmerman, Acting Director of the Board's Office of Congressional and Public Services, to serve as the Designated Federal Official—the agency's liaison to RETAC. Suggestions for members of RETAC should be submitted in letter form, identifying the name of the candidate; evidence of the interests the candidate will represent; and a representation that the candidate is willing to serve a two-year term as a member of the RETAC. Suggestions for candidates for membership on the RETAC should be submitted to the Board by August 9, 2007.

Copies of the RETAC charter will be available from the Board's contractor, ASAP Document Solutions (mailing address: Suite 103, 9332 Annapolis Rd., Lanham, MD 20706; e-mail address: asapdc@verizon.net; telephone number: 202-306-4004). The charter will also be available for viewing and self-copying in the Board's Public Docket Room, Room 131, and will be posted to the Board's Web site at: http://www.stb.dot.gov.

This action will not significantly affect either the quality of the human environment or the conservation of energy resources.

Authority: 49 U.S.C. 721, 49 U.S.C. 11101; 49 U.S.C. 11121.

Decided: July 13, 2007.
By the Board, Chairman Nottingham, Vice Chairman Buttrey, and Commissioner Mulvey.
Vernon A. Williams,
Secretary.

[FR Doc. E7-14038 Filed 7-19-07; 8:45 am]

BILLING CODE 4915-01-P